DEPARTMENT OF COMMERCE

National Telecommunications and Information Administration

[Docket No. 001215353-3068-03]

RIN 0660-ZA14

PEACESAT Closing Date

AGENCY: National Telecommunications and Information Administration (NTIA), Commerce.

ACTION: Notice of closing date for solicitation of PEACESAT applications.

SUMMARY: The National Telecommunications and Information Administration (NTIA), U.S. Department of Commerce, announces the solicitation of applications for a grant for the Pan-Pacific Education and Communications Experiments by Satellite (PEACESAT) Program. Projects funded pursuant to this Notice are intended to support the PEACESAT Program's acquisition of satellite communications to service Pacific Basin communities and to manage the operations of this network. Applications for the PEACESAT Program grant will compete for funds from the Public Broadcasting, Facilities, Planning and Construction Funds account. The deadline for receipt of television applications for the Public Telecommunications Facilities Program (PTFP), which is also funded from this account, was November 19, 2002. The PTFP deadline was published in the Federal Register on October 17, 2002 (67 FR 64297). NTIA also published in the March 5, 2003 Federal Register (68 FR 10610) that the deadline for receipt of radio and nonbroadcast applications for the PTFP, which are also funded from this account, will be April 4, 2003.

DATE: Applications for the PEACESAT Program grant must be received on or before 5 p.m. EDT on May 9, 2003. Applicants sending applications by the United States Postal Service or commercial delivery services must ensure that the carrier will be able to guarantee delivery of the application by the closing date and time. NTIA will not accept mail delivery of applications posted on the closing date or later and received after the above deadline. However, if an application is received after the closing date due to carrier error, when the carrier accepted the package with a guarantee for delivery by the closing date, NTIA will, upon receipt of proper documentation, consider the application as having been received by the deadline.

ADDRESSES: To submit completed applications, or send any other correspondence, write to: NTIA/PTFP, Room H-4625, U.S. Department of Commerce, 1401 Constitution Avenue, NW., Washington, DC 20230. Applicants submitting applications by hand delivery are notified that, due to security procedures in the Department of Commerce, all packages must be cleared by the Department's security office. The security office is located in Room 1874, located at Entrance No. 10 on the 15th St. NW. side of the building.

FOR FURTHER INFORMATION CONTACT: William Cooperman, Director, Public Broadcasting Division, telephone: (202) 482-5802; fax: (202) 482-2156.

SUPPLEMENTARY INFORMATION:

I. Application Forms and Requirements

Funding for the PEACESAT Program is provided pursuant to Public Law 108-7, “The Consolidated Appropriations Resolution, 2003,” and Public Law 106-113, “The Consolidated Appropriations Act, Fiscal Year 2000.” Public Law 106-113 provides “That, hereafter, notwithstanding any other provision of law, the Pan-Pacific Education and Communications Experiments by Satellite (PEACESAT) Program is eligible to compete for Public Broadcasting Facilities, Planning and Construction funds.” The PEACESAT Program was authorized under Pub. L. 100-584 (102 Stat. 2970) and also Pub. L. 101-555 (104 Stat. 2758) to acquire satellite communications services to provide educational, medical, and cultural needs of Pacific Basin communities. The PEACESAT Program has been operational since 1971 and has received funding from NTIA for support of the project since 1988.

Public Law 108-7 appropriated $43.5 million for this account to be awarded for Public Telecommunications Facilities Program (PTFP) grants and for PEACESAT Program grants. Solicitation notices for the PTFP Program were published in the Federal Register on October 17, 2002 (67 FR 64297) for television applications and on March 5, 2003 (68 FR 10610) for radio and nonbroadcast applications. Applications submitted in response to this solicitation for PEACESAT applications are not subject to the requirements of the October 17, 2002 or March 5, 2003 Notices and are exempt from the PTFP regulations at 15 CFR part 2301. NTIA anticipates making a single award for approximately $500,000 for the PEACESAT Program in FY2003.

NTIA requests that each applicant for a PEACESAT Program grant supply one (1) original signed application and five (5) copies, unless doing so would present a financial hardship, in which case the applicant may submit one(1) original and two (2) copies of the application. The application form consists of the Standard Form 424 Application for Federal Assistance; Standard Form 424A Budget Information-Non-Construction Programs; Standard Form 424 B, Assurances; Standard Form CD-511 Certification; and Standard Form LLL, Disclosure of Lobbying Activities (if applicable). These requirements are subject to the Paperwork Reduction Act and have been approved by the Office of Management and Budget under control numbers 0348-0043, 0348-0044, 0348-0040 and 0348-0046.

Eligible applicants will include any for-profit or non-profit organization, public or private entity, other than an agency or division of the Federal government. Individuals are not eligible to apply for the PEACESAT Program funds.

Grant recipients under this program will not be required to provide matching funds toward the total project cost.

The costs allowable under this Notice are not subject to the limitation on costs contained in the October 17, 2002 or March 5, 2003 Notices regarding the PTFP Program.

II. Catalog of Federal Domestic Assistance Number

11.550 Public Telecommunications Facilities Program.

III. Administrative Requirements; Scope of Project and Eligible Costs; Evaluation and Selection Process

Public Law Number 108-7 was enacted February 20, 2003. Public Law No. 108-7 appropriated funds to the Public Broadcasting, Facilities, Planning and Construction Funds account. Pursuant to Public Law 106-113 the Pan-Pacific Education and Communications Experiments by Satellite (PEACESAT) Program can compete for funds from the Public Broadcasting, Facilities, Planning and Construction Funds account. Funds appropriated to the Public Broadcasting, Facilities, Planning and Construction Funds account do not carry fiscal year limitations. A notice published on March 16, 1999 set forth the scope of the project and eligible costs, and a description of the evaluation and selection process for applications for the PEACESAT Program. Since funds for the Public Broadcasting, Facilities, Planning and Construction Funds account are available without fiscal year limitations, the administrative requirements; scope of project and eligible costs criteria; and evaluation and selection process criteria set forth in the March 16, 1999 notice apply to the 1999 PEACESAT program and to all subsequent years. A copy of the March 16,1999 Notice is available to potential applicants from NTIA at the address listed in the Address section and is also available on the Internet at http://www.ntia.doc.gov/otiahome/peacesat.html. If, in the future, NTIA changes the administrative requirements; the scope of project and eligible costs criteria; or the evaluation and selection process criteria, a new notice will be published containing the new criteria and requirements. Unsuccessful applications will be destroyed.

Applicants for grants for the PEACESAT Program must file their applications on or before May 9, 2003. NTIA anticipates making the grant award by September 30, 2003. NTIA shall not be liable for any proposal preparation costs.

IV. Project Period

Any project awarded pursuant to this notice will be for a one-year period.

V. Other Requirements

The Department of Commerce Pre-Award Notification of Requirements for Grants and Cooperative Agreements contained in the Federal Register notice of October 1, 2001 (66 FR 49917), as amended by the Federal Register notice published on October 30, 2002 (67 FR 66109), is applicable to this solicitation.

Notwithstanding any other provision of law, no person is required to respond to, nor shall any person be subject to a penalty for failure to comply with, a collection of information subject to the requirements of the Paperwork Reduction Act (PRA),unless that collection displays a currently valid Office of Management and Budget control number.

VI. Executive Order 12866

It has been determined that this notice is “not significant” for the purpose of Executive Order 12866.

VII. Executive Order 13132

It has been determined that this notice does not contain policies with Federalism implications as that term is defined in EO 13132.

VIII. Regulatory Flexibility Analysis

Because notice and comment are not required under 5 U.S.C. 553, or any other law, for this notice related to public property, loans, grants, benefits or contracts, 5 U.S.C. 553(a), a Regulatory Flexibility Analysis is not required and has not been prepared for this notice. 5 U.S.C. 601 et seq.

Authority: Pub. L. 108-7, “The Consolidated Appropriations Resolution, 2003,” and Public Law 106-113, “The Consolidated Appropriations Act, Fiscal Year 2000.”

Dr. Bernadette McGuire-Rivera,
Associate Administrator, Office of Telecommunications and Information Applications.

[FR Doc. 03-8678 Filed 4-8-03; 8:45 am]

BILLING CODE 3510-60-P